DEPARTMENT OF TRANSPORTATION

Federal Aviation Administration

14 CFR Part 71

[Docket No. FAA-2021-0275; Airspace Docket No. 20-AAL-39]

RIN 2120-AA66

Proposed Modification of Class E Airspace; Gulkana, AK

AGENCY: Federal Aviation Administration (FAA), DOT.

ACTION: Notice of proposed rulemaking (NPRM).

SUMMARY: This action proposes to modify the Class E airspace, designated as a surface area, at Gulkana Airport, Gulkana, AK. This action also proposes to modify the Class E airspace extending upward from 700 and 1,200 feet above the surface. Additionally, this action also proposes to remove the Gulkana VORTAC and the Glenallen NDB from the Class E2's text header and airspace description. Further, this action proposes to remove the Gulkana VOR/DME from the Class E5's text header and airspace description. Lastly, this action proposes administrative updates to the Class E2 and Class E5 text headers and the Class E2 airspace description. This action would ensure the safety and management of instrument flight rules (IFR) operations at the airport.

DATES: Comments must be received on or before June 14, 2021.

ADDRESSES: Send comments on this proposal to the U.S. Department of Transportation, Docket Operations, 1200 New Jersey Avenue SE, West Building Ground Floor, Room W12-140, Washington, DC 20590; telephone: 1-800-647-5527, or (202) 366-9826. You must identify FAA Docket No. FAA-2021-0275; Airspace Docket No. 20-AAL-39, at the beginning of your comments. You may also submit comments through the internet at https://www.regulations.gov.

FAA Order 7400.11E, Airspace Designations and Reporting Points, and subsequent amendments can be viewed online at https://www.faa.gov/air_traffic/publications/. For further information, you can contact the Airspace Policy Group, Federal Aviation Administration, 800 Independence Avenue SW, Washington, DC 20591; telephone: (202) 267-8783. The Order is also available for inspection at the National Archives and Records Administration (NARA). For information on the availability of FAA Order 7400.11E at NARA, email fedreg.legal@nara.gov or go to https://www.archives.gov/federal-register/cfr/ibr-locations.html.

FOR FURTHER INFORMATION CONTACT: Matthew Van Der Wal, Federal Aviation Administration, Western Service Center, Operations Support Group, 2200 S 216th Street, Des Moines, WA 98198; telephone (206) 231-3695.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of airspace necessary to ensure the safety of aircraft and the efficient use of airspace. This regulation is within the scope of that authority, as it would modify the Class E airspace at Gulkana Airport, Gulkana, AK, to support IFR operations at the airport.

Comments Invited

Interested parties are invited to participate in this proposed rulemaking by submitting such written data, views, or arguments, as they may desire. Comments that provide the factual basis supporting the views and suggestions presented are particularly helpful in developing reasoned regulatory decisions on the proposal. Comments are specifically invited on the overall regulatory, aeronautical, economic, environmental, and energy-related aspects of the proposal. Communications should identify both docket numbers and be submitted in triplicate to the address listed above. Persons wishing the FAA to acknowledge receipt of their comments on this notice must submit with those comments a self-addressed, stamped postcard on which the following statement is made: “Comments to Docket No. FAA-2021-0275; Airspace Docket No. 20-AAL-39”. The postcard will be date/time stamped and returned to the commenter.

All communications received before the specified closing date for comments will be considered before taking action on the proposed rule. The proposal contained in this notice may be changed in light of the comments received. A report summarizing each substantive public contact with FAA personnel concerned with this rulemaking will be filed in the docket.

Availability of NPRMs

An electronic copy of this document may be downloaded through the internet at https://www.regulations.gov. Recently published rulemaking documents can also be accessed through the FAA's web page at https://www.faa.gov/air_traffic/publications/airspace_amendments/.

You may review the public docket containing the proposal, any comments received, and any final disposition in person in the Dockets Office (see the ADDRESSES section for the address and phone number) between 9:00 a.m. and 5:00 p.m., Monday through Friday, except federal holidays. An informal docket may also be examined during normal business hours at the Northwest Mountain Regional Office of the Federal Aviation Administration, Air Traffic Organization, Western Service Center, Operations Support Group, 2200 S 216th Street, Des Moines, WA 98198.

Availability and Summary of Documents for Incorporation by Reference

This document proposes to amend FAA Order 7400.11E, Airspace Designations and Reporting Points, dated July 21, 2020, and effective September 15, 2020. FAA Order 7400.11E is publicly available as listed in the ADDRESSES section of this document. FAA Order 7400.11E lists Class A, B, C, D, and E airspace areas, air traffic service routes, and reporting points.

The Proposal

The FAA is proposing an amendment to 14 CFR part 71 by modifying the Class E airspace, designated as a surface area, at Gulkana Airport, Gulkana, AK. The areas extending north and south of the 4-mile radius are not required to contain IFR aircraft descending below 1,000 feet above the surface, and they should be removed. Also, the current description establishes the airspace's ceiling at 4,100 feet MSL. This action proposes to remove the following verbiage from this airspace area “to and including 4,100 feet MSL”, this will set the airspace's ceiling at the floor of the overlying controlled airspace, which begins at 700 feet above the surface.

This action also proposes to modify the Class E airspace extending upward from 700 feet above the surface. This airspace is designed to contain IFR departures to 1,200 feet above the surface and IFR arrivals descending below 1,500 feet above the surface. To properly contain IFR aircraft arriving and departing from the airport, the circular radius of the airport should be reduced from 6.5 miles to 5 miles. The area extending south of the 5-mile radius should be enlarged to contain aircraft holding for the RNAV RWY 33R approach. The area extending north of the 5-mile radius should be modified slightly, this modification accounts for using the airport as the sole reference for the airspace's description.

This action also proposes to modify the Class E airspace extending upward from 1,200 feet above the surface. This airspace is designed to contain IFR aircraft transitioning to/from the terminal and en route environments. To properly contain IFR aircraft, this area should be reduced and reshaped.

Additionally, this action proposes to remove the Gulkana VORTAC and the Glenallen NDB from the Class E2 text header and airspace description. The navigational aids (NAVAID) are not needed to define the airspace and removal of the NAVAIDs simplifies the airspaces' description.

Further, this action also proposes to remove the Gulkana VOR/DME from the Class E5 text headed and airspace description. The NAVAID is not needed to define the airspace and removal of the NAVAID simplifies the airspace's description.

Lastly, the action proposes administrative updates to the airspaces' text headers and airspace descriptions. On the second line of the Class E5 text header, Gulkana is listed twice, this action proposes to remove the redundant city name. On the third line of the Class E2 and E5 text headers, the geographic coordinates should be updated to “lat. 62°09′16″ N, long. 145°27′19″ W.” In the last sentence of the Class E2 airspace's description, the term “Airport/Facility Directory” is outdated and it should be changed to “Chart Supplement.”

Class E2 and Class E5 airspace designations are published in paragraph 6002, and 6005 of FAA Order 7400.11E, dated July 21, 2020, and effective September 15, 2020, which is incorporated by reference in 14 CFR 71.1. The Class E airspace designations listed in this document will be published subsequently in the Order.

FAA Order 7400.11, Airspace Designations and Reporting Points, is published yearly and effective on September 15.

Regulatory Notices and Analyses

The FAA has determined that this regulation only involves an established body of technical regulations for which frequent and routine amendments are necessary to keep them operationally current, is non-controversial, and unlikely to result in adverse or negative comments. It, therefore: (1) Is not a “significant regulatory action” under Executive Order 12866; (2) is not a “significant rule” under DOT Regulatory Policies and Procedures (44 FR 11034; February 26, 1979); and (3) does not warrant preparation of a regulatory evaluation as the anticipated impact is so minimal. Since this is a routine matter that will only affect air traffic procedures and air navigation, it is certified that this rule, when promulgated, would not have a significant economic impact on a substantial number of small entities under the criteria of the Regulatory Flexibility Act.

Environmental Review

This proposal will be subject to an environmental analysis in accordance with FAA Order 1050.1F, “Environmental Impacts: Policies and Procedures” prior to any FAA final regulatory action.

List of Subjects in 14 CFR Part 71

Airspace, Incorporation by reference, Navigation (air).

The Proposed Amendment

Accordingly, pursuant to the authority delegated to me, the Federal Aviation Administration proposes to amend 14 CFR part 71 as follows:

PART 71—DESIGNATION OF CLASS A, B, C, D, AND E AIRSPACE AREAS; AIR TRAFFIC SERVICE ROUTES; AND REPORTING POINTS

1. The authority citation for 14 CFR part 71 continues to read as follows:

Authority: 49 U.S.C. 106(f), 106(g), 40103, 40113, 40120; E.O. 10854, 24 FR 9565, 3 CFR, 1959-1963 Comp., p. 389.

§ 71.1 [Amended]

2. The incorporation by reference in 14 CFR 71.1 of FAA Order 7400.11E, Airspace Designations and Reporting Points, dated July 21, 2020, and effective September 15, 2020, is amended as follows:

Paragraph 6002 Class E Airspace Areas Designated as Surface Areas.

* * * * *

AAL AK E2 Gulkana, AK [Amended]

Gulkana Airport, AK

(Lat. 62°09′16″ N, long. 145°27′19″ W)

That airspace extending upward from the surface within a 4-mile radius of the airport. This Class E airspace area is effective during specific dates and times established in advance by Notice to Airmen. The effective date and time will thereafter be continuously published in the Chart Supplement.

Paragraph 6005 Class E Airspace Areas Extending Upward From 700 Feet or More Above the Surface of the Earth.

* * * * *

AAL AK E5 Gulkana, AK [Amended]

Gulkana Airport, AK

(Lat. 62°09′16″ N, long. 145°27′19″ W)

That airspace extending upward from 700 feet above the surface within a 5-mile radius of the airport, and within 5 miles each side of the 169° bearing from the airport, extending from the 5-mile radius to 24 miles south of the airport, and within 4 miles each side of the 351° bearing from the airport, extending from the 5-mile radius to 12.5 miles north of the airport; and that airspace extending upward from 1,200 feet above the surface within an area beginning at lat. 62°53′13″ N, long. 144°15′00″ W, to lat. 61°44′20″ N, long. 144°15′00″ W, to lat. 61°42′32″ N, long. 146°46′37″ W, to lat. 62°51′31″ N, long. 146°46′37″ W, then to the point of beginning.

Issued in Des Moines, Washington, on April 21, 2021.
B.G. Chew,
Acting Group Manager, Operations Support Group, Western Service Center.

[FR Doc. 2021-08727 Filed 4-27-21; 8:45 am]

BILLING CODE 4910-13-P